PEACE CORPS

Information Collection Request; Submission for OMB Review

AGENCY: Peace Corps.

ACTION: 30-Day notice and request for comments.

SUMMARY: The Peace Corps will submit the following information collection request to the Office of Management and Budget (OMB) for approval. In compliance with the Paperwork Reduction Act of 1995 (44 U.S.C. Chapter 35), the Peace Corps invites the general public to comment on this request for approval of a new proposed information collection, Peace Corps Volunteers Long Term Health Outcomes Survey (OMB Control Number 0420—pending). This process is conducted in accordance with 5 CFR 1320.10.

DATES: Submit comments on or before November 20, 2015.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA Officer, Peace Corps, 1111 20th Street NW., Washington, DC 20526, (202) 692-1236, or email at pcfr@peacecorps.gov. Copies of available documents submitted to OMB may be obtained from Denora Miller.

SUPPLEMENTARY INFORMATION: The information in the Peace Corps Volunteers Long Term Health Outcomes survey will be compiled and analyzed by the U.S. Department of Health and Human Services, Centers for Disease Control and Prevention in conjunction with the Peace Corps, Office of Health Services, Epidemiology and Surveillance Unit to determine what the long term health outcomes of Peace Corps Volunteer service are.

OMB Control Number: 0420-XXXX.

TITLE: Peace Corps Volunteers Long Term Health Outcomes Survey.

Type of Review: New.

Affected Public: Individuals.

Respondents' Obligation to Reply: Voluntary.

Burden to the Public:

a. Estimated number of Returned Peace Corps Volunteers: 44,787.

b. Estimated number of respondents: 11,196.

c. Frequency of response: One time.

d. Completion time: 15 minutes.

e. Annual burden hours: 2,799 hours.

General Description of Collection: The Peace Corps needs the information that will be collected on the survey to inform the programming and training needs of Peace Corps Volunteers. The data generated from this survey can help Peace Corps understand long-term health outcomes of Peace Corps Volunteers in terms of prevalence of select diseases in comparison to the general US population.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on October 15, 2015.
Denora Miller,
FOIA/Privacy Act Officer, Management.

[FR Doc. 2015-26684 Filed 10-20-15; 8:45 am]

BILLING CODE 6051-01-P